DEPARTMENT OF LABOR

Mine Safety and Health Administration

[OMB Control No. 1219-0141]

Proposed Extension of Information Collection; Emergency Mine Evacuation

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995, 44 U.S.C. 3506(c)(2)(A). This program helps to assure that requested data can be provided in the desired format, reporting burden (time and financial resources) is minimized, collection instruments are clearly understood, and the impact of collection requirements on respondents can be properly assessed. Currently, the Mine Safety and Health Administration (MSHA) is soliciting comments on the information collection for Emergency Mine Evacuation.

DATES: All comments must be received on or before May 31, 2016.

ADDRESSES: Comments concerning the information collection requirements of this notice may be sent by any of the methods listed below.

• Federal E-Rulemaking Portal: http://www.regulations.gov. Follow the on-line instructions for submitting comments for docket number MSHA-2016-0003.

• Regular Mail: Send comments to USDOL-MSHA, Office of Standards, Regulations, and Variances, 201 12th Street South, Suite 4E401, Arlington, VA 22202-5452.

• Hand Delivery: USDOL-Mine Safety and Health Administration, 201 12th Street South, Suite 4E401, Arlington, VA 22202-5452. Sign in at the receptionist's desk on the 4th floor via the East elevator.

FOR FURTHER INFORMATION CONTACT: Sheila McConnell, Acting Director, Office of Standards, Regulations, and Variances, MSHA, at MSHA.information.collections@dol.gov (email); 202-693-9440 (voice); or 202-693-9441 (facsimile).

SUPPLEMENTARY INFORMATION:

I. Background

The Mine Safety and Health Administration (MSHA) requires each operator of an underground coal mine to submit a Mine Emergency Evacuation and Firefighting Program of Instruction to the District Manager for approval. Upon approval by the MSHA District Manager, the operator uses the approved program of instruction to implement programs for training miners in responding appropriately to mine emergencies. MSHA uses the plans to ensure that the operator's program will provide the required training and drills to all miners. MSHA requires the operator to certify the training and drill for each miner at the completion of each quarterly drill, annual expectations training, or other training, and that a copy be provided to the miner upon request. These certifications are used by MSHA, operators, and miners as evidence that the required training has been completed. MSHA requires that escapeway maps show the SCSR storage locations. Accurate and up-to-date maps are essential to the engineering plans and safe operation of mines and to the health and safety of the miners. MSHA and other emergency evacuation personnel will use the notations on the maps should a rescue or recovery operation be necessary. Miners use the escapeway maps in training and during mine evacuations. Escapeway maps are required to be posted or readily accessible for all miners in each working section, areas where mechanized mining equipment is being installed or removed, at surface locations where miners congregate and in each refuge alternative. MSHA requires that persons that test Self-Contained, Self-Rescuers (SCSRs) certify that the tests were done and record all corrective actions. MSHA inspectors use these records to determine compliance with the standards. It includes requirements for compiling, maintaining, and reporting an inventory of all SCSRs at the mine, and for reporting defects, performance problems, or malfunctions with SCSRs. This will assure that MSHA can investigate SCSR problems, if necessary, notify other users of these problems before accidents occur and require manufacturers to address potential problems with these critical devices.

II. Desired Focus of Comments

MSHA is soliciting comments concerning the proposed information collection related to Emergency Mine Evacuation. MSHA is particularly interested in comments that:

• Evaluate whether the collection of information is necessary for the proper performance of the functions of the agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at USDOL-Mine Safety and Health Administration, 201 12th South, Suite 4E401, Arlington, VA 22202-5452. Sign in at the receptionist's desk on the 4th floor via the East elevator.

Questions about the information collection requirements may be directed to the person listed in the FOR FURTHER INFORMATION section of this notice.

III. Current Actions

This request for collection of information contains provisions for Emergency Mine Evacuation. MSHA has updated the data with respect to the number of respondents, responses, burden hours, and burden costs supporting this information collection request.

Type of Review: Extension, without change, of a currently approved collection.

Agency: Mine Safety and Health Administration.

OMB Number: 1219-0141.

Affected Public: Business or other for-profit.

Number of Respondents: 240.

Frequency: On occasion.

Number of Responses: 1,150,400.

Annual Burden Hours: 479,282 hours.

Annual Respondent or Recordkeeper Cost: $52,960.

MSHA Forms: MSHA Form 2000-222, Self Contained Self Rescuer (SCSR) Inventory and Report.

Comments submitted in response to this notice will be summarized and included in the request for Office of Management and Budget approval of the information collection request; they will also become a matter of public record.

Sheila McConnell,
Certifying Officer.

[FR Doc. 2016-07007 Filed 3-28-16; 8:45 am]

BILLING CODE 4510-43-P